DEPARTMENT OF AGRICULTURE

Animal and Plant Health Inspection Service

[Docket No. APHIS-2016-0049]

Notice of Decision; Cold Treatment of Grapefruit From Australia

AGENCY: Animal and Plant Health Inspection Service, USDA.

ACTION: Notice.

SUMMARY: We are advising the public of our decision to amend cold treatment schedule T107-d-3 in the Plant Protection and Quarantine Treatment Manual to include grapefruit from Australia. In a previous notice, we made available to the public for review and comment a treatment evaluation document that described the treatment schedule and explained why we have determined that it is effective at neutralizing certain target pests on grapefruit from Australia.

DATES: The cold treatment schedule T107-d-3 will be authorized for use on grapefruit from Australia beginning September 5, 2017.

FOR FURTHER INFORMATION CONTACT: Ms. Dorothy C. Wayson, Senior Regulatory Policy Specialist, Imports, Regulations and Manuals, PPQ, APHIS, 4700 River Road, Unit 133, Riverdale, MD 20737-1231; (301) 851-2036.

SUPPLEMENTARY INFORMATION: The regulations in 7 CFR chapter III are intended to prevent the introduction or dissemination of plant pests and noxious weeds into or within the United States. Under the regulations, certain plants, fruits, vegetables, and other articles must be treated before they may be moved into the United States or interstate. The phytosanitary treatments regulations contained in 7 CFR part 305 (referred to below as the regulations) set out standards for treatments required in 7 CFR parts 301, 318, and 319 for fruits, vegetables, and other articles.

In § 305.2, paragraph (b) states that approved treatment schedules are set out in the Plant Protection and Quarantine (PPQ) Treatment Manual.¹ Section 305.3 sets out the processes for adding, revising, or removing treatment schedules in the PPQ Treatment Manual. In that section, paragraph (a) sets out the normal process for adding, revising, or removing treatment schedules.

¹ The PPQ Treatment Manual is available at http://www.aphis.usda.gov/import_export/plants/manuals/index.shtml or by contacting the Animal and Plant Health Inspection Service, Plant Protection and Quarantine, Manuals Unit, 92 Thomas Johnson Drive, Suite 200, Frederick, MD 21702.

In accordance with § 305.3(a)(1), we published a notice ² in the Federal Register on September 16, 2016 (81 FR 63735-63736, Docket No. APHIS-2016-0049), in which we announced the availability of a treatment evaluation document (TED). The TED recommended amending treatment schedule T107-d-3 to extend its applicability to grapefruit from Australia. The treatment would effectively mitigate the pest risk from Queensland fruit fly (Bactrocera tryoni (Froggatt)) and provide exporters with the option to have grapefruit from Australia cold-treated at 3 °C or below for 14 days to meet U.S. entry requirements.

² To view the notice, the treatment evaluation document, and the comments we received, go to http://www.regulations.gov/#!docketDetail;D=APHIS-2016-0049.

We solicited comments on the notice for 60 days ending on November 15, 2016. We received two comments by that date. They were from a State plant protection agency and a foreign agriculture department.

Both commenters were in favor of amending treatment schedule T107-d-3 to include grapefruit from Australia. One commenter stated that it should be emphasized that the treatment is applicable only to fruit coming from areas free of Mediterranean fruit fly (Medfly, Ceratitis capitata (Weidemann)).

We agree with the commenter and note that treatment schedule T107-d-3 is approved for mitigation of Queensland fruit fly only. As treatment for Medfly requires a longer cold treatment to ensure mortality of all immature stages, T107-d-3 will apply only to fruit coming from Medfly-free areas of Australia.

Therefore, in accordance with the regulations in § 305.3(a)(2), we are amending the PPQ Treatment Manual and making available a new version of the manual that reflects this addition to T107-d-3.

Authority: 7 U.S.C. 7701-7772 and 7781-7786; 21 U.S.C. 136 and 136a; 7 CFR 2.22, 2.80, and 371.3.

Done in Washington, DC, this 30th day of August 2017.
Michael C. Gregoire,
Acting Administrator, Animal and Plant Health Inspection Service.

[FR Doc. 2017-18703 Filed 9-1-17; 8:45 am]

BILLING CODE 3410-34-P